U.S. COMMISSION ON OCEAN POLICY

Public Meeting

AGENCY: U.S. Commission on Ocean Policy.

ACTION: Notice.

SUMMARY: The U.S. Commission on Ocean Policy will hold its fifth regional meeting, the Commission's seventh public meeting, to hear and discuss coastal and ocean issues of concern to Hawaii and the Pacific Islands.

DATES: Public meetings will be held Monday, May 13, 2002 from 1 p.m. to 6 p.m. and Tuesday, May 14, 2002 from 8:30 a.m. to 6 p.m.

ADDRESSES: The meeting location is the Renaissance Ilikai Waikiki Hotel, Bora Bora/Moorea Ballroom, 1777 Ala Moana Boulevard, Honolulu, HI 96815.

FOR FURTHER INFORMATION CONTACT: Terry Schaff, U.S. Commission on Ocean Policy, 1120 20th Street, NW., Washington, DC, 20036, 202-418-3442, schaff@oceancommission.gov.

SUPPLEMENTARY INFORMATION: This meeting is being held pursuant to requirements under the Oceans Act of 2000 (Public Law 106-256, Section 3(e)(1)(E)). The agenda will include presentations by invited speakers representing local and regional government agencies and non-governmental organizations, comments from the public and any required administrative discussions and executive sessions. Invited speakers and members of the public are requested to submit their statements for the record electronically by May 6, 2002 to the meeting Point of Contact. A public comment period is scheduled for Tuesday, May 14. The agenda for the meeting, including the specific time for the public comment period, and guidelines for making public comments will be posted on the Commission's website at http://www.oceancommission.gov prior to the meeting.

Dated: April 22, 2002.
Admiral James D. Watkins, USN (ret.),
Chairman, U.S. Commission on Ocean Policy.

[FR Doc. 02-10269 Filed 4-25-02; 8:45 am]

BILLING CODE 6820-WM-P